DEPARTMENT OF ENERGY

Federal Energy Regulatory Commission

Combined Notice of Filings #2

Take notice that the Commission received the following electric rate filings:

Docket Numbers: ER23-1749-000.

Applicants: Midcontinent Independent System Operator, Inc.

Description: § 205(d) Rate Filing: 2023-04-28_SA 3235 ITC Midwest-Duane Arnold Solar 1st Rev GIA (J504) to be effective 4/21/2023.

Filed Date: 4/28/23.

Accession Number: 20230428-5108.

Comment Date: 5 p.m. ET 5/19/23.

Docket Numbers: ER23-1750-000.

Applicants: Midcontinent Independent System Operator, Inc., Ameren Illinois Company.

Description: § 205(d) Rate Filing: Midcontinent Independent System Operator, Inc. submits tariff filing per 35.13(a)(2)(iii: 2023-04-28_SA 4046 Ameren IL-Electric Energy Relocation Agreement to be effective 6/28/2023.

Filed Date: 4/28/23.

Accession Number: 20230428-5128.

Comment Date: 5 p.m. ET 5/19/23.

Docket Numbers: ER23-1751-000.

Applicants: Southern California Edison Company.

Description: § 205(d) Rate Filing: 1st Amend GIA, Windhub Solar B + Removal from eTariff record (WDT1515/SA1050) to be effective 6/28/2023.

Filed Date: 4/28/23.

Accession Number: 20230428-5157.

Comment Date: 5 p.m. ET 5/19/23.

Docket Numbers: ER23-1752-000.

Applicants: Oak Trail Solar, LLC.

Description: Baseline eTariff Filing: Reactive Power Compensation Baseline Filing to be effective 6/30/2023.

Filed Date: 4/28/23.

Accession Number: 20230428-5189.

Comment Date: 5 p.m. ET 5/19/23.

Docket Numbers: ER23-1753-000.

Applicants: MATL LLP.

Description: Compliance filing: Order No. 676-J (Second) Compliance Filing to be effective 5/1/2023.

Filed Date: 4/28/23.

Accession Number: 20230428-5204.

Comment Date: 5 p.m. ET 5/19/23.

Docket Numbers: ER23-1754-000.

Applicants: Southwest Power Pool, Inc.

Description: § 205(d) Rate Filing: 4059 WAPA, Northern States Power & MISO Interconnection Ag to be effective 12/31/9998.

Filed Date: 4/28/23.

Accession Number: 20230428-5235.

Comment Date: 5 p.m. ET 5/19/23.

Docket Numbers: ER23-1755-000.

Applicants: Public Service Company of Colorado.

Description: Compliance filing: 2023-04-28-Att O PSCo Appendix 1—Amnd to be effective 4/27/2022.

Filed Date: 4/28/23.

Accession Number: 20230428-5245.

Comment Date: 5 p.m. ET 5/19/23.

Docket Numbers: ER23-1756-000.

Applicants: Long Island Solar Farm, LLC.

Description: § 205(d) Rate Filing: LISF Tariff Update Filing to be effective 4/29/2023.

Filed Date: 4/28/23.

Accession Number: 20230428-5251.

Comment Date: 5 p.m. ET 5/19/23.

Docket Numbers: ER23-1757-000.

Applicants: Montevue Lane Solar LLC.

Description: Baseline eTariff Filing: Market-Based Rate Application to be effective 6/28/2023.

Filed Date: 4/28/23.

Accession Number: 20230428-5267.

Comment Date: 5 p.m. ET 5/19/23.

Docket Numbers: ER23-1758-000.

Applicants: Niagara Mohawk Power Corporation, New York Independent System Operator, Inc.

Description: § 205(d) Rate Filing: Niagara Mohawk Power Corporation submits tariff filing per 35.13(a)(2)(iii: NYISO-National Grid Joint 205: Amended SGIA Hilltop Solar Project SA2638 to be effective 4/14/2023.

Filed Date: 4/28/23.

Accession Number: 20230428-5268.

Comment Date: 5 p.m. ET 5/19/23.

Docket Numbers: ER23-1759-000.

Applicants: 2014 ESA Project Company, LLC.

Description: Tariff Amendment: Notice of Cancellation to be effective 4/29/2023.

Filed Date: 4/28/23.

Accession Number: 20230428-5275.

Comment Date: 5 p.m. ET 5/19/23.

Docket Numbers: ER23-1760-000.

Applicants: Guernsey Power Station LLC.

Description: Baseline eTariff Filing: Reactive Power Tariff Application to be effective 6/1/2023.

Filed Date: 4/28/23.

Accession Number: 20230428-5276.

Comment Date: 5 p.m. ET 5/19/23.

Docket Numbers: ER23-1761-000.

Applicants: Public Service Company of Colorado.

Description: § 205(d) Rate Filing: 2023-04-28 WAPA CFA 350-PSCo Exhibit L Rev 2-0.2.0 to be effective 6/27/2023.

Filed Date: 4/28/23.

Accession Number: 20230428-5366.

Comment Date: 5 p.m. ET 5/19/23.

Docket Numbers: ER23-1762-000.

Applicants: Evergy Kansas Central, Inc.

Description: § 205(d) Rate Filing: TFR Reg Asset 205 Filing April 2023 to be effective 7/1/2023.

Filed Date: 4/28/23.

Accession Number: 20230428-5379.

Comment Date: 5 p.m. ET 5/19/23.

Docket Numbers: ER23-1763-000.

Applicants: AE-ESS NWS 1, LLC.

Description: Tariff Amendment: AE-ESS NWS 1 Cancellation of MBR Tariff to be effective 5/1/2023.

Filed Date: 4/28/23.

Accession Number: 20230428-5387.

Comment Date: 5 p.m. ET 5/19/23.

Docket Numbers: ER23-1764-000.

Applicants: Evergy Kansas Central, Inc.

Description: § 205(d) Rate Filing: GFR Reg Asset 205 April 2023 to be effective 7/1/2023.

Filed Date: 4/28/23.

Accession Number: 20230428-5393.

Comment Date: 5 p.m. ET 5/19/23.

Docket Numbers: ER23-1765-000.

Applicants: Duke Energy Florida, LLC.

Description: § 205(d) Rate Filing: DEF—CFTOD Revised NITSA SA No. 147 to be effective 4/1/2023.

Filed Date: 4/28/23.

Accession Number: 20230428-5405.

Comment Date: 5 p.m. ET 5/19/23.

Docket Numbers: ER23-1766-000.

Applicants: Boott Hydropower, LLC.

Description: Baseline eTariff Filing: Market-Based Rate Application and Request for Expedited Action to be effective 5/1/2023.

Filed Date: 4/28/23.

Accession Number: 20230428-5408.

Comment Date: 5 p.m. ET 5/19/23.

Docket Numbers: ER23-1767-000.

Applicants: ISO New England Inc., The Narragansett Electric Company.

Description: § 205(d) Rate Filing: ISO New England Inc. submits tariff filing per 35.13(a)(2)(iii: Second Revised LGIA-ISONE/NEP-10-03 and First Revised SGIA-ISONE/NEP-13-03 to be effective 1/1/2023.

Filed Date: 4/28/23.

Accession Number: 20230428-5409.

Comment Date: 5 p.m. ET 5/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2023.
Debbie-Anne A. Reese,
Deputy Secretary.

[FR Doc. 2023-09495 Filed 5-3-23; 8:45 am]

BILLING CODE 6717-01-P